DEPARTMENT OF LABOR

Office of the Secretary

Privacy Act of 1974; Publication of New Notice of System of Records

AGENCY: Office of the Secretary, Department of Labor.

ACTION: Notice; publication of New System of Records.

SUMMARY: This notice provides publication of a new Department of Labor System of Records.

DATES: Written comments must be submitted to the office listed in the ADDRESSES section below on or before November 12, 2019.

ADDRESSES: You may submit comments to Steven Pierce, Records Officer, Wage and Hour Division, Department of Labor, 200 Constitution Avenue NW, Room S-3510, Washington, DC 20210 or at pierce.steven@dol.gov. Instructions: Please submit one copy of your comments by the date listed in the DATES section by only one method. Because we continue to experience delays in receiving mail in the Washington, DC area, commenters are strongly encouraged to transmit their comments electronically or by mail early. Comments, including any personal information provided, become a matter of public record.

FOR FURTHER INFORMATION CONTACT: Steven Pierce, Records Officer, Wage and Hour Division, Department of Labor, 200 Constitution Avenue NW, Room S-3510, Washington, DC 20210. Telephone (202) 693-1217, or by email to pierce.steven@dol.gov. Copies of this notice may be obtained in alternative formats (Large Print, Braille, Audio Tape, or Disc), upon request, by calling (202) 693-0023 (not a toll-free number). TTY/TTD callers may dial toll-free (877) 889-5627 to obtain information or request materials in alternative formats.

SUPPLEMENTARY INFORMATION:

I. Background

Pursuant to the Privacy Act of 1974 (5 U.S.C. 552a(e)(4)), The Department of Labor, Wage and Hour Division (WHD), proposes a new system of record for existing records that through the use of information technology will become individually identifiable. This notice extends only to this new Privacy Act system of record and does not modify any of WHD's last published Privacy Act system notices.

II. Current Action

Pursuant to section three of the Privacy Act of 1974 (5 U.S.C. 552a(e)(4)), the Department hereby publishes this new addition to the WHD System of Records.

A. Proposed New System

The proposed new system is entitled DOL/WHD-11, Certificate Application Processing System. This system contains records related to Employer applicants for 14(c) (29 U.S.C. 214(c)) certificates and their employees' information.

WHD—DOL Wage and Hour Division System of Records DOL/WHD-11

SYSTEM NAME:

14(c) Certificate Application Processing System

SECURITY CLASSIFICATION:

None.

SECURITY CLASSIFICATION:

None.

SYSTEM LOCATION:

Wage and Hour National Office (NO), Regional Offices (RO), and District Offices (DO). Frances Perkins Building, 200 Constitution Avenue NW, Washington DC 20210.

CATEGORIES OF INDIVIDUALS COVERED BY THE SYSTEM:

Employer applicants for 14(c) certificates and their employees' information will be in the system.

CATEGORIES OF RECORDS IN THE SYSTEM:

All data collected on the WH-226 & 226A will be in the system. This includes records which contain the names of employers and applicants; their employees' names, primary disabilities, and wage and employment data; employer addresses; employer identification number19892, and, certificate numbers for 14(c) certificates.

AUTHORITY FOR MAINTENANCE OF THE SYSTEM:

—29 U.S.C. 214(c).

—29 CFR 525.7-9, 12-13.

PURPOSE(S):

The system will facilitate the review and decision-making related to the WHD section 14(c) certificate program.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Records can be retrieved by any data element collected in the system including employer and employee name.

SAFEGUARDS:

Accessed by authorized personnel only. Computer security safeguards are used for electronically stored data.

RETENTION AND DISPOSAL:

Applications and employer certifications are retained for five (5) years after the final action and then are disposed as per N1-155-11-0003 item 2a.

SYSTEM MANAGER(S) AND ADDRESS:

Administrator, Wage and Hour Division, Frances Perkins Building, 200 Constitution Avenue NW, Washington, DC 20210.

NOTIFICATION PROCEDURE:

Inquiries should be mailed to the System Manager.

RECORD ACCESS PROCEDURE:

A request for access should be mailed to the System Manager.

CONTESTING RECORD PROCEDURE:

A petition for amendment should be addressed to the System Manager.

RECORD SOURCE CATEGORIES:

Records contained in this system include 14(c) employer applications, required documentation, and certificates.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a provided, however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence.

Dated: September 30, 2019.
Bryan Slater,
Assistant Secretary for Administration and Management, Department of Labor.

[FR Doc. 2019-22231 Filed 10-10-19; 8:45 am]

BILLING CODE 4510-27-P